SMALL BUSINESS ADMINISTRATION

[Disaster Declaration #10883 and #10884]

Iowa Disaster Number IA-00008

AGENCY: U.S. Small Business Administration.

ACTION: Amendment 1.

SUMMARY: This is an amendment of the Presidential declaration of a major disaster for the State of Iowa (FEMA-1705-DR), dated 05/25/2007.

Incident: Severe Storms, Flooding and Tornadoes.

Incident Period: 05/05/2007 through 05/07/2007.

EFFECTIVE DATE: 06/08/2007.

Physical Loan Application Deadline Date: 07/24/2007.

EIDL Loan Application Deadline Date: 02/25/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the Presidential disaster declaration for the State of Iowa, dated 05/25/2007, is hereby amended to include the following areas as adversely affected by the disaster:

Primary Counties:

Dallas.

Contiguous Counties:

Iowa: Boone, Greene, Polk, Warren.

All other information in the original declaration remains unchanged.

(Catalog of Federal Domestic Assistance Numbers 59002 and 59008)

Jane M. Pease,
Acting Associate Administrator for Disaster Assistance.

[FR Doc. E7-11683 Filed 6-15-07; 8:45 am]

BILLING CODE 8025-01-P